Title 3—

The President

Proclamation 8702 of August 31, 2011

National Childhood Obesity Awareness Month, 2011

By the President of the United States of America

A Proclamation

Since the 1970s, the rate of childhood obesity in our country has tripled, and today a third of American children are overweight or obese. This dramatic rise threatens to have far-reaching, long-term effects on our children’s health, livelihoods, and futures. Without major changes, a third of children born in the year 2000 will develop Type 2 diabetes during their lifetimes, and many others will face obesity-related problems like heart disease, high blood pressure, cancer, and asthma. As a Nation, our greatest responsibility is to ensure the well-being of our children. By taking action to address the issue of childhood obesity, we can help America’s next generation reach their full potential.

Together, we can stop this epidemic in its tracks. Over the last year and a half, the First Lady’s Let’s Move! initiative has brought together Federal agencies and some of the biggest corporations and nonprofits from across our country, working to meet our national goal of solving the problem of childhood obesity within a generation. Let’s Move! aims to help ensure we can make healthy choices about the foods we eat and how much exercise we get, while building the habits necessary to tackle one of the most urgent health issues we face in this country. I invite all Americans to visit LetsMove.gov to learn more about this initiative and how to help children eat healthy and stay active.

Everyone has a role to play in preventing and reversing the tide of childhood obesity. This year, we announced groundbreaking partnerships with grocery stores and other retailers to increase access to healthy food in underserved areas. These stores have pledged to increase their fruit and vegetable offerings and to open new locations in communities where nutritious food is limited or unavailable. Childhood obesity cuts across all cultural and demographic lines, so Let’s Move! has started initiatives to reach every cross-section of America, from urban and rural areas to schools, health clinics, and child care homes and centers. These programs touch everyone, from faith-based communities to Indian Country, empowering kids and their families to discover the fun in healthy eating and exercise.

Schools also have an important role in ensuring our children live full and active lives. Last December, I signed the Healthy, Hunger-Free Kids Act into law, enacting comprehensive change that will allow more children to eat healthier school lunches. One of the cornerstones of Let’s Move! is the HealthierUS School Challenge. This year, America met the goal of doubling the number of schools meeting the Challenge’s requirements for expanding nutrition and physical activity opportunities. These 1,250 schools have shown that together, we can go above and beyond to give our kids the healthy future they deserve.

We are coordinating across the Federal Government to make our goal a reality. This year, the Federal Government released updated Dietary Guidelines for Americans, providing a science-based roadmap for individuals to make healthy choices, and emphasizing the importance of good nutrition and an active lifestyle. We adapted the food pyramid to a new design—MyPlate—to encourage balanced meals. And our Healthy People 2020 initiative incorporates childhood obesity prevention in its goals for increasing the health of all Americans.

Across our country, parents are working hard every day to make sure their kids are healthy, and my Administration is committed to supporting families in their efforts. During National Childhood Obesity Awareness Month, we recognize the outstanding work our businesses, communities, and families are doing to help us meet our responsibilities to our children. I urge all Americans to help us meet our goal of solving the problem of childhood obesity within a generation.

NOW, THEREFORE, I, BARACK OBAMA, President of the United States of America, by virtue of the authority vested in me by the Constitution and the laws of the United States, do hereby proclaim September 2011 as National Childhood Obesity Awareness Month. I encourage all Americans to take action by learning about and engaging in activities that promote healthy eating and greater physical activity by all our Nation’s children.

IN WITNESS WHEREOF, I have hereunto set my hand this thirty-first day of August, in the year of our Lord two thousand eleven, and of the Independence of the United States of America the two hundred and thirty-sixth.

[FR Doc. 2011-22928

Filed 9-2-11; 11:15 am]

Billing code 3195-W1-P